DEPARTMENT OF COMMERCE

National Oceanic and Atmospheric Administration

50 CFR Part 660

[Docket No. 050801213-5213-01; I.D. 072805B]

RIN 0648-AT53

Fisheries off West Coast States and in the Western Pacific; Western Pacific Pelagic Fisheries; Control Date for Domestic Purse Seine and Longline Pelagic Fisheries in U.S. EEZ of Western Pacific Region

AGENCY: National Marine Fisheries Service (NMFS), National Oceanic and Atmospheric Administration (NOAA), Commerce.

ACTION: Proposed rule; advance notice of proposed rulemaking; notification of control date.

SUMMARY: NMFS announces that persons who enter the pelagic purse seine and longline fisheries in the U.S. exclusive economic zone (EEZ) of the western Pacific region after June 2, 2005 (“control date”) are not guaranteed future participation in the fishery if the Western Pacific Fishery Management Council (WPFMC) recommends, and NMFS approves, a program limiting entry or effort. This action does not commit the WPFMC or NMFS to limit entry, or prevent any other date from being selected for eligibility to participate in the pelagic purse seine or longline fisheries. The WPFMC or NMFS may also use other criteria to limit fishing effort or participation in a limited entry program that is developed in the future.

DATES: Comments must be submitted in writing by October 14, 2005.

ADDRESSES: You may submit comments on this notice identified by I.D. 072805B by any of the following methods:

• E-mail: AT53-PSLLDate@noaa.gov. Include I.D. 072805B in the subject line of the e-mail comment following document identifier: Purse seine and longline control date. Comments sent via e-mail, including all attachments, must not exceed a 10 megabyte file size.

• Federal e-Rulemaking portal: www.regulations.gov. Follow the instructions for submitting comments.

• Mail: William L. Robinson, Administrator, NMFS Pacific

Islands Region (PIR), 1601 Kapiolani Blvd., Suite 1110, Honolulu, HI 96814.

• Fax: 808-973-2941

FOR FURTHER INFORMATION CONTACT: Robert Harman, NMFS PIR, at 808-944-2271.

SUPPLEMENTARY INFORMATION: On June 2, 2005, at its 127th meeting, the WPFMC recommended a “control date” of June 2, 2005, applicable to persons who are contemplating entering the pelagic purse seine (for tunas) and longline fisheries in the U.S. exclusive economic zone (EEZ) around islands of the western Pacific region. The WPFMC requested that this control date be published in the Federal Register to notify fishermen that if they enter these fisheries after June 2, 2005, they may not be assured of future access if the WPFMC and/or NMFS decide to limit entry or impose other measures to manage these fisheries.

Establishment of a control date responds to NMFS' notice to the WPFMC, dated December 30, 2004 (69 FR 78397), that overfishing is occurring Pacific-wide on bigeye tuna, and that management action must be taken by the WPFMC to end this overfishing. The WPFMC tentatively has determined that limited access programs for purse seine and longline fisheries in the U.S. EEZ of the western Pacific region might be one of the viable mechanisms to reduce fishing mortality in Pacific bigeye tuna, as a step toward ending overfishing in the pelagic fisheries.

Domestic longline and purse seine vessels operate in the U.S. EEZ, on the high seas, and in foreign EEZs under specific arrangements. Fishery access (in terms of both number of participants and geographical operations) is already limited in several of these fisheries. There is a limited access program in the Hawaii longline fishery, and a similar program will limit access to the American Samoa longline fishery on December 1, 2005. In Hawaii, the pelagic longline fishery is limited to 164 vessels, with about 120 active in recent years. In American Samoa, participation will likely be limited to 138 vessels. There are 65 additional general (open-access) longline permits in the region. Some 64 of these are located in American Samoa, and many of these are expected to qualify under the American Samoa limited entry program. One more general longline permit holder is located in the Commonwealth of the Northern Mariana Islands, but the vessel is inactive. Currently, there are no domestic longline vessels operating out of Guam. Domestic purse seine vessels have access to foreign EEZs under the arrangements of the South Pacific Tuna Treaty. The treaty limits U.S. participation to 40 vessels, plus an additional five for joint ventures. The number of active U.S. purse seine vessels has decreased gradually from 36 in 1999 to 17 in 2005. There has been limited activity in recent years within the U.S. EEZ by purse seiners, specifically around the Pacific Remote Island Areas.

Control dates are intended to discourage speculative entry into fisheries, as new entrants entering the fisheries after the control date are forewarned that they are not guaranteed future participation in the fisheries.

Establishment of this control date does not commit the WPFMC or NMFS to any particular management regime or criteria for entry into the pelagic purse seine or longline fisheries. Fishermen are not guaranteed future participation in the fisheries, regardless of their level of participation before or after the control date. The WPFMC may recommend a different control date or it may recommend a management regime that does not involve a control date. Other criteria, such as documentation of commercial landings and sales, may be used to determine eligibility for participation in a limited access fishery. The WPFMC and/or NMFS also may choose to take no further action to control entry or access to the fisheries, in which case the control date may be rescinded.

Classification

This advance notice of proposed rulemaking has been determined to be not significant for the purposes of Executive Order 12866.

Authority: 16 U.S.C. 1801 et seq.

Dated: August 10, 2005.
James W. Balsiger,
Acting Deputy Assistant Administrator for Regulatory Programs, National Marine Fisheries Service.

[FR Doc. 05-16122 Filed 8-12-05; 8:45 am]

BILLING CODE 3510-22-S